DEPARTMENT OF ENERGY

Federal Energy Regulatory Commission

[Docket No. EL13-17-000]

Blue Summit Wind, LLC; Notice of Petition for Declaratory Order

Take notice that on November 6, 2012, pursuant to section 207(a)(2) of the Federal Energy Regulatory Commission's (Commission) Rules of Practice and Procedure 18 CFR 385.207(a)(2), Blue Summit Wind, LLC (Blue Summit) filed a petition for declaratory order requesting that the Commission disclaim jurisdiction over (1) interconnection facilities that deliver power from the Blue Summit's wind energy generator (Blue Summit Facility) located within the Southwest Power Pool region to an interconnection point on the transmission system of American Electric Power Company, Inc. and Electric Transmission Texas, LLC, within the Electric Reliability Council of Texas (ERCOT) region, (2) transmission and sales of energy over these interconnection facilities, and (3) the electric utilities in ERCOT that are not public utilities under the Federal Power Act as a result of the interconnection of Blue Summit.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 27, 2012.

Dated: November 7, 2012.
Kimberly D. Bose,
Secretary.

[FR Doc. 2012-27710 Filed 11-14-12; 8:45 am]

BILLING CODE 6717-01-P